DEPARTMENT OF DEFENSE

Office of the Secretary

Submission for OMB Review; Comment Request

ACTION: Notice.

The Department of Defense has submitted to OMB for clearance, the following proposal for collection of information under the provisions of the Paperwork Reduction Act (44 U.S.C. Chapter 35).

DATES: Consideration will be given to all comments received by June 28, 2004.

Title, Form, and OMB Number: Statement of Claimant Requesting Recertified Check; DD Form 2660; OMB Number 0730-0002.

Type of Request: Extension.

Number of Respondents: 114,308.

Responses Per Respondent: 1.

Annual Responses: 114,308.

Average Burden Per Response: 5 minutes.

Annual Burden Hours: 9,526.

Needs and Uses: The DD Form 2660, Statement of Claimant Requesting Recertified Check, is used to ascertain pertinent information needed by the Department of Defense to reissue checks to payees. In accordance with TFM Volume 1, Part 4, Section 7060.20 and DoD 7000.14-R, Volume 5, there is a requirement that a payee identify themselves and certify as to what happened to the original check issued by the government, such as non-receipt, loss, destruction, theft, etc. This collection will be used to identify rightful reissuance of government checks outside the Department of Defense.

Affected Public: Individuals or households; business or other for-profit; not-for-profit institutions; State, Local or Tribal Government.

Frequency: On occasion.

Respondent's Obligation: Required to obtain or retain benefits.

OMB Desk Officer: Ms. Jacqueline Zeiher.

Written comments and recommendations on the proposed information collection should be sent to Ms. Zeiher at the Office of Management and Budget, Desk Officer for DoD, Room 10236, New Executive Office Building, Washington, DC 20503.

DOD Clearance Officer: Mr. Robert Cushing.

Written requests for copies of the information collection proposal should be sent to Mr. Cushing, WHS/ESCD/Information Management Division, 1225 South Clark Street, Suite 504, Arlington, VA 22202-4326.

Dated: May 25, 2004.
L.M. Bynum,
Alternate OSD Federal Register Liaison Officer, Department of Defense.

[FR Doc. 04-12113 Filed 5-27-04; 8:45 am]

BILLING CODE 5001-06-M